COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds product(s) to the Procurement List that will be furnished by nonprofit agencies employing persons who are blind or have other severe disabilities, and deletes product(s) from the Procurement List previously furnished by such agencies.

DATES: Date added to and deleted from the Procurement List: April 9, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 12/3/2021, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

8925-01-E62-6898—Syrup, Maple, Imitation, Thick

8925-01-E62-6897—Syrup, Maple, Imitation

Designated Source of Supply: Golden Rule Industries of Muskogee, Inc., Muskogee, OK

Contracting Activity: DEFENSE LOGISTICS AGENCY, DLA TROOP SUPPORT

Mandatory for: 100% of the requirement of the Department of Defense

Deletions

On 12/23/2022 and 1/13/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

6645-01-584-0892—Clock, Mini Desk, Rosewood

Designated Source of Supply: Tarrant County Association for the Blind, Fort Worth, TX

Contracting Activity: GSA/FAS ADMIN SVCS ACQUISITION BR(2, NEW YORK, NY

Service(s)

Service Type: Food Service Attendant

Mandatory for: US Army, Helemano Military Reservation, Building 300, Wahiawa, HI

Designated Source of Supply: Opportunities and Resources, Inc., Wahiawa, HI

Contracting Activity: DEPT OF THE ARMY, 0413 AQ HQ

Service Type: Family Housing Maintenance

Mandatory for: US Navy, NAVFAC SOUTHWEST, Naval Base Ventura County, 311 Main Road, Point Mugu, CA

Designated Source of Supply: PRIDE Industries, Roseville, CA

Contracting Activity: DEPT OF THE NAVY, NAVFAC SOUTHWEST

Service Type: Custodial Services

Mandatory for: Veterans Affairs Nursing Home Care Unit, Pueblo, CO

Designated Source of Supply: Pueblo Diversified Industries, Inc., Pueblo, CO

Contracting Activity: VETERANS AFFAIRS, DEPARTMENT OF, 259-NETWORK CONTRACT OFFICE 19

Service Type: Janitorial/Custodial

Mandatory for: Department of Veterans Affairs, Camp Hill Community Based Outpatient Clinic, 25 N 32nd Street, Camp Hill, PA

Designated Source of Supply: Goodwill Services, Inc., Harrisburg, PA

Contracting Activity: VETERANS AFFAIRS, DEPARTMENT OF, 595-LEBANON

Michael R. Jurkowski,
Acting Director, Business Operations.

[FR Doc. 2023-04938 Filed 3-9-23; 8:45 am]

BILLING CODE 6353-01-P